DEPARTMENT OF HOUSING AND URBAN DEVELOPMENT

[Docket No. FR-7061-N-02]

60-Day Notice of Proposed Information Collection: Jobs Plus; OMB Control No.: 2577-0281

AGENCY: Office of the Assistant Secretary for Public and Indian Housing, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: May 9, 2022.

ADDRESSES: Interested persons are invited to submit comments regarding this proposal. Comments should refer to the proposal by name and/or OMB Control Number and should be sent to: Colette Pollard, Reports Management Officer, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the Federal Relay Service at (800) 877-8339 (this is a toll-free number).

FOR FURTHER INFORMATION CONTACT: Dawn Smith, Office of Policy, Programs and Legislative Initiatives, PIH, Department of Housing and Urban Development, 451 7th Street SW, (Room 3180), Washington, DC 20410; telephone 202-402-4109, (this is not a toll-free number). Persons with hearing or speech impairments may access this number via TTY by calling the Federal Relay Service at (800) 877-8339 (this is a toll-free number). Copies of available documents submitted to OMB may be obtained from Ms. Smith.

SUPPLEMENTARY INFORMATION: This notice informs the public that HUD is seeking approval from OMB for the information collection described in Section A.

A. Overview of Information Collection

Title of Information Collection: Jobs Plus.

OMB Approval Number: 2577-0281.

Type of Request: Revision of currently approved collection.

Form Number: SF-424, SF-LLL, HUD 2880, HUD 2991, HUD-50144, HUD 50153, SF424B, SF425.

Description of the need for the information and proposed use: The information collection is required to administer the Jobs Plus program, including applying for funds and grantee reporting.

Respondents: Potential applicants and grantees (which includes public housing authorities).

Estimated Number of Respondents: 103 annually.

Estimated Number of Responses: 447 annually.

Frequency of Response: Frequency of response varies depending on what information is being provided (e.g., once per year for applications and four times per year for grantee reporting).

Burden Hours per Response: Burden hours per response for Jobs Plus grant applications is 65.25. The information collections unrelated to the Notice of Funding Opportunity, including grantee reporting and program management is 33.

Total Estimated Burdens: Total burden hours is estimated to be 6,572.75. Total burden cost is estimated to be $302,280.77.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. 3507.

Laura Miller-Pittman,
Chief, Office of Policy, Programs and Legislative Initiatives.

[FR Doc. 2022-05050 Filed 3-9-22; 8:45 am]

BILLING CODE 4210-67-P